POSTAL SERVICE

International Product Change—GEPS 8 Contracts

AGENCY: Postal Service™.

ACTION: Notice.

SUMMARY: The Postal Service gives notice of filing a request with the Postal Regulatory Commission to add Global Expedited Package Services 8 product to the Competitive Products List.

DATES: Date of notice required under 39 U.S.C. 3642(d)(1): September 12, 2017.

FOR FURTHER INFORMATION CONTACT: Donald W. Ross, (973) 477-4406.

SUPPLEMENTARY INFORMATION: The United States Postal Service® hereby gives notice that, pursuant to 39 U.S.C. 3642, on September 5, 2017, it filed with the Postal Regulatory Commission a Request of The United States Postal Service to add Global Expedited Package Services 8 to the Competitive Products List. Documents are available at www.prc.gov, Docket Nos. MC2017-183 and CP2017-284.

Stanley F. Mires,
Attorney, Federal Compliance.

[FR Doc. 2017-19237 Filed 9-11-17; 8:45 am]

BILLING CODE 7710-12-P